DEPARTMENT OF COMMERCE

International Trade Administration

[A-580-809]

Certain Circular Welded Non-Alloy Steel Pipe From the Republic of Korea; Initiation of Changed Circumstances Antidumping Duty Administrative Review

AGENCY: Import Administration, International Trade Administration, Department of Commerce.

ACTION: Notice of Initiation of Changed Circumstances Antidumping Duty Administrative Review.

SUMMARY: In response to a letter from Hyundai Pipe Co., Ltd. notifying the Department of Commerce that its corporate name would be changing to Hyundai Steel Company, the Department of Commerce is initiating a changed circumstances administrative review of the antidumping duty order on certain circular welded non-alloy steel pipe from the Republic of Korea (see Notice of Antidumping Orders: Certain Circular Welded Non-Alloy Steel Pipe from Brazil, the Republic of Korea (“Korea”), Mexico, and Venezuela and Amendment to Final Determination of Sales at Less Than Fair Value: Certain Welded Non-Alloy Steel Pipe from Korea (57 FR 49453, November 2, 1992)).

EFFECTIVE DATE: February 27, 2001.

FOR FURTHER INFORMATION CONTACT: Suresh Maniam or Sibel Oyman, Import Administration, International Trade Administration, U.S. Department of Commerce, 14th Street and Constitution Avenue, NW., Washington, DC 20230; telephone (202) 482-0176 and (202) 482-1174, respectively.

Applicable Statute

Unless otherwise indicated, all citations to the Tariff Act of 1930, as amended (the “Act”), are references to the provisions effective January 1, 1995, the effective date of the amendments made to the Act by the Uruguay Round Agreements Act. In addition, unless otherwise indicated, all citations to the Department of Commerce's (“Department”) regulations are to 19 CFR Part 351 (2000).

SUPPLEMENTARY INFORMATION:

Background

On January 5, 2001, a respondent in this proceeding, Hyundai Pipe Co., Ltd. (“HDP”) notified the Department that as of February 1, 2001, its corporate name would change to Hyundai Steel Company (“Hyundai Hysco”). HDP stated that the corporate structure would not change and that all owners, management, production facilities, suppliers and customers will stay the same. HDP provided documentation to support this claim, consisting of an official announcement and a press article noting the name change. On February 9, 2001, HDP submitted the following supplementary information documenting the name change: a public announcement; minutes of the shareholders' meeting; a relevant portion from its draft 2000 financial statements; new business registration certificates for the Seoul office, head office/pipe production facility, and cold-rolling mill; a list of identical pre-and post-name change organizational charts and articles of association; a list of identical pre- and post-name board of directors; and a list of identical pre- and post-name change suppliers and customers. On February 15, 2001, HDP further confirmed that its change in name was not a result of a merger, acquisition, or change in corporate structure.

The information submitted by Hyundai shows changed circumstances sufficient to warrant a review. Therefore, we are initiating a changed circumstances administrative review pursuant to section 751(b)(1) of the Act to determine whether entries naming Hyundai Hysco as manufacturer or exporter should receive the cash deposit rate currently applied to HDP.

Scope of the Review

The merchandise subject to this review is circular welded non-alloy steel pipe and tube, of circular cross-section, not more than 406.4mm (16 inches) in outside diameter, regardless of wall thickness, surface finish (black, galvanized, or painted), or end finish (plain end, beveled end, threaded, or threaded and coupled). These pipes and tubes are generally known as standard pipes and tubes and are intended for the low-pressure conveyance of water, steam, natural gas, air, and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this order.

All carbon-steel pipes and tubes within the physical description outlined above are included within the scope of this review except line pipe, oil-country tubular goods, boiler tubing, mechanical tubing, pipe and tube hollows for redraws, finished scaffolding, and finished conduit. In accordance with the Department's Final Negative Determination of Scope Inquiry on Certain Circular Welded Non-Alloy Steel Pipe and Tube from Brazil, the Republic of Korea, Mexico, and Venezuela (61 FR 11608, March 21, 1996), pipe certified to the API 5L line-pipe specification and pipe certified to both the API 5L line-pipe specifications and the less-stringent ASTM A-53 standard-pipe specifications, which falls within the physical parameters as outlined above, and entered as line pipe of a kind used for oil and gas pipelines is outside of the scope of the antidumping duty order.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and Customs Service purposes, our written description of the scope of this proceeding is dispositive.

Initiation of Changed Circumstances Review

Pursuant to section 751(b)(1) of the Act, the Department will conduct a changed circumstances review upon receipt of information concerning, or a request from an interested party of, an antidumping duty order which shows changed circumstances sufficient to warrant a review of the order.

HDP has notified the Department that its corporate name has changed and that no changes have occurred with respect to ownership, management, production facilities, suppliers or customers. We therefore find good cause to conduct a changed circumstances review. See 19 CFR 351.216(c). Therefore, in accordance with section 751(b)(1) of the Act and 19 CFR 351.216(b) and 351.221(b)(1), we are initiating a changed circumstances review based upon the information contained in HDP's submissions.

The Department will publish in the Federal Register a notice of preliminary results of changed circumstances antidumping duty administrative review, in accordance with 19 CFR 351.221(b)(4) and 351.221(c)(3)(i), which will set forth the Department's preliminary factual and legal conclusions. The Department will issue its final results of review in accordance with the time limits set forth in 19 CFR 351.216(e).

This notice is in accordance with section 751(b)(1) of the Act.

Dated: February 20, 2001.
Richard W. Moreland,
Deputy Assistant Secretary for Import Administration, Group 1.

[FR Doc. 01-4772 Filed 2-26-01; 8:45 am]

BILLING CODE 3510-DS-P